DEPARTMENT OF ENERGY

Federal Energy Regulatory Commission

[Docket No. CP16-18-000]

Magnum Gas Storage, LLC; Notice of Schedule for Environmental Review of The Magnum Gas Storage Amendment Project

On November 16, 2015, Magnum Gas Storage, LLC (Magnum) filed an abbreviated application to amend the Certificate of Public Convenience and Necessity granted by the Federal Energy Regulatory Commission (Commission or FERC) on March 17, 2011 in Docket No. CP10-22-000. Magnum was authorized to construct, own, and operate natural gas storage and transmission facilities in Millard, Juab, and Utah Counties, Utah. To date, construction of the authorized Magnum Gas Storage Project (Magnum Project) has not commenced.

On November 24, 2015, the Commission issued its Notice of Application for the Magnum Gas Storage Amendment Project (Amendment Project). Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Amendment Project.

Schedule for Environmental Review

Issuance of EA, July 29, 2016

90-day Federal Authorization Decision Deadline, October 27, 2016

If a schedule change becomes necessary, additional notice will be provided so that the relevant agencies are kept informed of the Project's progress.

Project Description

The Amendment Project would result in the elimination and relocation of facilities within the original footprint of the Magnum Project. Specifically, Magnum would eliminate: Brine evaporation pond 1; monitoring wells DA-1 and DA-2; and monitoring wells, GA-1, GA-2, GA-9, GA-10, and GA-11. Magnum would also relocate: Four natural gas caverns; water wells 1 through 5; compression, dehydration, and pumping facilities; 4-inch gas supply line; maintenance and laydown area; office/warehouse building and substation; and site-wide utilities.

Additionally, Magnum would relocate a 6,252-foot-long segment of the 61.6-mile-long, 36-inch-diameter Header pipeline, 63 feet north of the authorized alignment, west of Jones Road in Millard County, Utah. Magnum is not proposing any changes to the temporary or permanent right-of-way width for this portion of the Header alignment. Therefore, the previously approved temporary and permanent disturbance acreage would not increase.

Background

On January 14, 2016, the Commission issued a Notice of Intent To Prepare an Environmental Assessment for the Proposed Magnum Gas Storage Amendment Project and Request for Comments on Environmental Issues (NOI). The NOI was sent to affected landowners; federal, state, and local government agencies; elected officials; environmental and public interest groups; Native American tribes; other interested parties; and local libraries and newspapers. In response to the NOI, the Commission received comments from the Hopi Tribe, the State of Utah Office of the Governor, and the State of Utah School and Institutional Trust Lands Administration (SITLA). The primary issues raised by the commentors are consultations on cultural resources, state permits, and the National Historic Perseveration Act. The U.S. Department of Transportation, SITLA, State of Utah, and Millard County, Utah, are cooperating agencies in the preparation of the EA for the Amendment Project.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-18), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: June 24, 2016.
Nathaniel J. Davis, Sr.,
Deputy Secretary.

[FR Doc. 2016-15555 Filed 6-29-16; 8:45 am]

BILLING CODE 6717-01-P